INTERNATIONAL TRADE COMMISSION

[Investigation No. 731-TA-1070B (Second Review)]

Certain Tissue Paper Products From China

Determination

On the basis of the record ¹ developed in the subject five-year review, the United States International Trade Commission (“Commission”) determines, pursuant to the Tariff Act of 1930 (“the Act”), that revocation of the antidumping duty order on certain tissue paper products from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on June 1, 2015 (80 FR 31065) and determined on September 4, 2015 that it would conduct a full review (80 FR 57386, September 23, 2015). Notice of the scheduling of the Commission's review and of a public hearing to be held in connection therewith was given by posting copies of the notice in the Office of the Secretary, U.S. International Trade Commission, Washington, DC, and by publishing the notice in the Federal Register on January 13, 2016 (81 FR 1643). The hearing was cancelled at the request of the domestic interested parties. The notice of cancellation of the hearing was published in the Federal Register on April 18, 2016 (81 FR 22632).

The Commission made this determination pursuant to section 751(c) of the Act (19 U.S.C. 1675(c)). It completed and filed its determination in this review on June 23, 2016. The views of the Commission are contained in USITC Publication 4617 (June 2016), entitled Certain Tissue Paper Products from China: Investigation No. 731-TA-1070B (Second Review).

By order of the Commission.
Issued: June 23, 2016.
Lisa R. Barton,
Secretary to the Commission.

[FR Doc. 2016-15822 Filed 7-1-16; 8:45 am]

BILLING CODE 7020-02-P